DEPARTMENT OF ENERGY

Federal Energy Regulatory Commission

[Docket No. EG03-97-000, et al.]

Meiya Qujing Power Company Limited., et al.; Electric Rate and Corporate Filings

September 2, 2003.

The following filings have been made with the Commission. The filings are listed in ascending order within each docket classification.

1. Meiya Qujing Power Company Limited

[Docket No. EG03-97-000]

Take notice that on August 27, 2003, Meiya Qujing Power Company Limited (MQP), with its principal office at Ugland House, South Church Street, George Town, Grand Cayman, Cayman Islands, filed with the Federal Energy Regulatory Commission (Commission@) an application for determination of exempt wholesale generator status pursuant to part 365 of the Commission's regulations.

MQP states it is a company organized under the laws of Cayman Islands. MQP also states that it will be engaged, directly or indirectly through an affiliate as defined in Section 2(a)(11)(B) of the Public Utility Holding Company Act of 1935 (APUHCA@), exclusively in owning, operating, or both owning and operating, a coal-fired electric generating facility with a total output of approximately 600 megawatts consisting of two steam turbines, two 1,025 ton-per-hour coal-fired boilers and certain additional incidental facilities, located in Qujing, Yunnan province, People's Republic of China. MQP explains it will, through an affiliate, sell electric energy at wholesale from the facility and may engage in other incidental activities with respect thereto consistent with PUHCA.

Comment Date: September 23, 2003.

2. Massachusetts Municipal Wholesale Electric Company Complainant, v. Power Authority of the State of New York, Respondent; Power Authority of the State of New York Project No. 2000 (St. Lawrence-FDR)

[Docket No. EL03-224-000]

Take notice that on August 29, 2003, Massachusetts Municipal Wholesale Electric Company (MMWEC), (Complainant), filed a Complaint Requesting Fast Track Processing against the Power Authority of the State of New York (NYPA) pursuant to Sections 206, 207, 306, 307, 20, and 31 of the Federal Power Act and Rules 206, 207, 212 of the Commission's Rules (18 CFR 385.206, 207 and 212). Complainant requests that the Commission take prompt action to extend the current contract between MMWEC and NYPA for power and energy from the St. Lawrence-FDR (Project No. 2000) and the Niagara (Project No. 2216) hydroelectric projects. The current contract, covering sales from both Projects, expires on October 31, 2003. MMWEC states that it is entitled to relief under the Projects' license conditions and pursuant to federal law. Moreover, consumers in Massachusetts will experience irreparable injury, absent an extension of the existing contract. MMWEC further states that its negotiations towards a new replacement contract with NYPA have been fruitless, despite years of effort.

Comment Date: September 17, 2003.

3. Massachusetts Municipal Wholesale Electric Company Complainant, v. Power Authority of the State of New York Respondent; Power Authority of the State of New York, Project No. 2216 (Niagara)

[Docket No. EL03-225-000]

Take notice that on August 29, 2003, Massachusetts Municipal Wholesale Electric Company (MMWEC), (Complainant), filed a Complaint Requesting Fast Track Processing against the Power Authority of the State of New York (NYPA) pursuant to Sections 206, 207, 306, 307, 20, and 31 of the Federal Power Act and Rules 206, 207, 212 of the Commission's Rules (18 CFR 385.206, 207 and 212). Complainant requests that the Commission take prompt action to extend the current contract between MMWEC and NYPA for power and energy from the St. Lawrence-FDR (Project No. 2000) and the Niagara (Project No. 2216) hydroelectric projects. The current contract, covering sales from both Projects, expires on October 31, 2003. MMWEC states that it is entitled to relief under the Projects' license conditions and pursuant to federal law. Moreover, consumers in Massachusetts will experience irreparable injury, absent an extension of the existing contract. MMWEC further states that its negotiations towards a new replacement contract with NYPA have been fruitless, despite years of effort.

Comment Date: September 17, 2003.

4. Midwest Independent Transmission System Operator, Inc.

[Docket No. ER03-5-002]

Take notice that on August 27, 2003, the Midwest Independent Transmission System Operator, Inc. (Midwest ISO) pursuant to Section 205 of the Federal Power Act and Section 35.13 of the Commission's regulations, 18 CFR 35.13 (2002), submitted for filing a second revised Interconnection and Operating Agreement among GM Transmission, LLC, the Midwest ISO and Northern States Power Company d/b/a Xcel Energy.

Midwest ISO states that a copy of this filing was served on the GM Transmission, LLC and Northern States Power Company d/b/a Xcel Energy.

Comment Date: September 17, 2003.

5. Midwest Independent Transmission System Operator, Inc.

[Docket No. ER03-83-004]

Take notice that on August 27, 2003, the Midwest Independent Transmission System Operator, Inc. (Midwest ISO) submitted for filing proposed revisions to Section 2.6 of its Open Access Transmission Tariff, FERC Electric Tariff, Second Revised Volume No. 1, in compliance with the Commission's July 28, 2003 Order on Rehearing, 104 FERC ¶ 61,148 (2003).

The Midwest ISO has requested the original effective date of December 23, 2002. Midwest has also requested waiver of the service requirements set forth in 18 CFR 385.2010. Midwest ISO states that it has electronically served a copy of this filing, with attachments, upon all Midwest ISO Members, Member representatives of Transmission Owners and Non-Transmission Owners, the Midwest ISO Advisory Committee participants, as well as all state commissions within the region. In addition, Midwest states that the filing has been electronically posted on the Midwest ISO's Web site at www.midwestiso.org under the heading “Filings to FERC” for other interested parties in this matter. Midwest ISO indicates that it will provide hard copies to any interested parties upon request.

Comment Date: September 17, 2003.

6. Midwest Independent Transmission System Operator, Inc.

[Docket No. ER03-86-005]

Take notice that on August 27, 2003, the Midwest Independent Transmission System Operator, Inc. (Midwest ISO) submitted for filing proposed revisions to Section 41.1 of its Open Access Transmission Tariff, FERC Electric Tariff, Second Revised Volume No. 1, in compliance with the Commission's July 28, 2003 Order on Rehearing, 104 FERC ¶ 61,148 (2003).

The Midwest ISO has requested the original effective date of December 23, 2002. Midwest ISO has also requested waiver of the service requirements set forth in 18 CFR 385.2010. Midwest ISO states that it has electronically served a copy of this filing, with attachments, upon all Midwest ISO Members, Member representatives of Transmission Owners and Non-Transmission Owners, the Midwest ISO Advisory Committee participants, as well as all state commissions within the region. In addition, Midwest states that the filing has been electronically posted on the Midwest ISO's Web site at www.midwestiso.org under the heading “Filings to FERC” for other interested parties in this matter. Midwest ISO indicates that it will provide hard copies to any interested parties upon request.

Comment Date: September 17, 2003.

7. PJM Interconnection L.L.C.

[Docket Nos. ER03-194-004 and ER03-309-004]

Take notice that on August 27, 2003, PJM Interconnection, L.L.C. (PJM) submitted a filing to comply with the Ordering Paragraph C of the Commission's Order issued July 29, 2003, 104 FERC ¶ 61,154.

Comment Date: September 17, 2003.

8. New York State Electric & Gas Corporation

[Docket No. ER03-587-001]

Take notice that on August 27, 2003, New York State Electric & Gas Corporation (NYSEG) tendered for filing pursuant to the Commission's April 28, 2003 Order in Docket No. ER03-587-000, FERC Rate Schedule 30 between NYSEG and Rochester Gas and Electric Corporation consistent with Order No. 614.

Comment Date: September 17, 2003.

9. Business Discount Plan, Inc.

[Docket No. ER03-1229-000]

Take notice that on August 18, 2003, Business Discount Plan (BDP) filed a Notice of Cancellation of its market-based rate authority. BDP states that it has never used its market-based rate authority and does not plan to do so in the future.

Comment Date: September 12, 2003.

10. Southern Company Services, Inc.

[Docket No. ER03-1252-000]

Take notice that on August 27, 2003, Southern Company Services, Inc. (SCS), acting on behalf of Alabama Power Company, Georgia Power Company, Gulf Power Company, Mississippi Power Company, and Savannah Electric and Power Company (collectively Southern Companies), filed an amendment to the Interchange Contract between Duke Power Company (Duke) and Southern Companies dated December 18, 1991 and designated First Revised Rate Schedule FERC No. 77. SCS states that this revision is made to allow payment for emergency service provided by Southern Companies to Duke under Service Schedule A of that contract to be made pursuant to Southern Companies' market-based rate tariff.

Comment Date: September 17, 2003.

11. Southern California Edison Company

[Docket No. ER03-1253-000]

Take notice that on August 27, 2003, Southern California Edison Company (SCE) tendered for filing a Letter Agreement between SCE and the Inland Empire Energy Center, L.L.C (IEEC). SCE states that the purpose of the Letter Agreement is to provide an arrangement pursuant to which SCE will review the California Energy Commission (CEC) Preliminary Staff Assessment (PSA), and later Final Staff Assessment (FSA), of IEEC's application for certification of a 500 kV generation transmission line and associated facilities which would be required to interconnect IEEC's generation project to SCE's electrical system.

SCE states that copies of this filing were served upon the Public Utilities Commission of the State of California and IEEC.

Comment Date: September 17, 2003.

12. Aquila, Inc.

[Docket No. ER03-1254-000]

Take notice that on August 27, 2003, Aquila, Inc. (Aquila), filed with the Commission, pursuant to Section 205 of the Federal Power Act, 16 U.S.C.824d, and part 35 of the Commission's regulations, 18 CFR 35, Amendatory Agreement No. 3 to the Multiple Interconnection & Transmission Contract between Aquila, Inc. d/b/a Aquila Networks—MPS and Kansas City Power & Light Company, designated as Aquila's Rate Schedule FERC No. 20. Aquila states that this amendment clarifies the existing interconnection point at the Duncan Road Substation. Aquila requests that the amendment be made effective August 28, 2003.

Comment Date: September 17, 2003.

13. FirstEnergy Solutions Corp.

[Docket No. ER03-1256-000]

Take notice that on August 27, 2003, FirstEnergy Solutions Corp. (Solutions) tendered for filing a Revised Electric Power Supply Agreement between Solutions, as seller, and The Cleveland Electric Illuminating Company, Ohio Edison Company, Pennsylvania Power Company and The Toledo Edison Company, as buyers (the Agreement). Solutions states that the Agreement has been modified to accommodate a change in the identity of the Transmission Provider that will deliver power being sold pursuant to the Agreement and to implement certain ministerial changes. Solutions has asked for waiver of any applicable requirements in order to make the Agreement effective as of October 1, 2003.

Comment Date: September 17, 2003.

14. Tampa Electric Company

[Docket No. ER03-1257-000]

Take notice that on August 27, 2003, Tampa Electric Company (Tampa Electric) tendered for filing the Operating Agreement between Tampa Electric and Florida Power Corporation (FPC) for the Pebbledale-Barcola Interconnection dated August 14, 2003, designated and formatted as a new Tampa Electric rate schedule. Tampa Electric proposes that the new rate schedule be made effective on August 14, 2003.

Tampa Electric states that copies of the filing have been served on FPC and the Florida Public Service Commission.

Comment Date: September 17, 2003.

15. Niagara Mohawk Power Corporation

[Docket No. ER03-1258-000]

Take notice that on August 27, 2003, Niagara Mohawk Power Corporation, a National Grid Company (Niagara Mohawk), tendered for filing a First Revised Service Agreement No. 326 (Service Agreement) between Niagara Mohawk and PSEG Power New York Inc. (PSEG) under the New York Independent System Operator's FERC Electric Tariff, Original Volume No. 1. Niagara Mohawk states that under the Service Agreement, it provides interconnection service to PSEG for the Albany Steam Station generating facility.

Comment Date: September 17, 2003.

16. Kloco Corporation

[Docket No. ER03-1259-000]

Take notice that on August 27, 2003, Kloco Corporation tendered for filing notification that GDK Corporation has changed its name to Kloco Corporation.

Comment Date: September 17, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-22869 Filed 9-8-03; 8:45 am]

BILLING CODE 6717-01-P